ENVIRONMENTAL PROTECTION AGENCY

[ER-FRL-9021-4]

Environmental Impact Statements; Notice of Availability

Responsible Agency: Office of Federal Activities, General Information (202) 564-7146 or http://www.epa.gov/compliance/nepa/.

Weekly receipt of Environmental Impact Statements (EISs)

Filed 06/01/2015 Through 06/05/2015

Pursuant to 40 CFR 1506.9.

Notice: Section 309(a) of the Clean Air Act requires that EPA make public its comments on EISs issued by other Federal agencies. EPA's comment letters on EISs are available at: https://cdxnodengn.epa.gov/cdx-enepa-public/action/eis/search.

EIS No. 20150160, Draft, USFWS, HI, Na Pua Makani Wind Project and Habitat Conservation Plan, Comment Period Ends: 08/11/2015, Contact: Jodi Charrier 808-792-9400.

EIS No. 20150161, Draft, DOE, VT, New England Clean Power Link Transmission Line Project, Comment Period Ends: 08/11/2015, Contact: Brian Mills 202-586-8267.

EIS No. 20150162, Draft Supplement, FTA, CA, Regional Connector Transit Corridor, Comment Period Ends: 07/27/2015, Contact: Mary Nguyen 213-202-3960.

EIS No. 20150163, Final, BLM, CA, Soda Mountain Solar Project Proposed Plan Amendment, Review Period Ends: 07/13/2015, Contact: Jeff Childers 760-252-6000.

EIS No. 20150164, Draft Supplement, BLM, UT, Alton Coal Tract Lease by Application, Comment Period Ends: 08/11/2015, Contact: Keith Rigtrup 435-865-3063.

EIS No. 20150165, Final, APHIS, National, Feral Swine Damage Management—A National Approach, Review Period Ends: 07/13/2015, Contact: Kimberly Wagner 608-837-2727.

EIS No. 20150166, Final, USFS, CO, Invasive Plant Management for the Medicine Bow- Routt National Forests and Thunder Basin National Grasslands, Review Period Ends: 07/27/2015, Contact: Misty Hays 307-358-7102.

EIS No. 20150167, Final, USFS, MT, Como Forest Health Project (FHP), Review Period Ends: 07/13/2015, Contact: Sara Grove 406-821-3269.

Dated: June 9, 2015.
Dawn Roberts,
Management Analyst, NEPA Compliance Division, Office of Federal Activities.

[FR Doc. 2015-14435 Filed 6-11-15; 8:45 am]

BILLING CODE 6560-50-P